DEPARTMENT OF DEFENSE

GENERAL SERVICES ADMINISTRATION

NATIONAL AERONAUTICS AND SPACE ADMINISTRATION

[OMB Control No. 9000-0006; Docket 2015-0055; Sequence 46]

Submission for OMB Review; Subcontracting Plans/Individual Subcontract Report, SF 294 and ISRS

AGENCIES: Department of Defense (DOD), General Services Administration (GSA), and National Aeronautics and Space Administration (NASA).

ACTION: Notice of request for public comments regarding a revision to an existing OMB clearance.

SUMMARY: Under the provisions of the Paperwork Reduction Act, the Regulatory Secretariat Division will be submitting to the Office of Management and Budget (OMB) a request to review and approve revisions to a previously approved information collection requirement concerning Subcontracting Plans/Individual Subcontract Report (SF) 294. A notice was published in the Federal Register at 80 FR 32909, on June 10, 2015. No comments were received on the information collection.

DATES: Submit comments on or before November 30, 2015.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching the OMB control number. Select the link “Submit a Comment” that corresponds with “Information Collection 9000-0006, Subcontracting Plans/Individual Subcontract Report (SF) 294, and ISRS”. Follow the instructions provided at the “Submit a Comment” screen. Please include your name, company name (if any), and “Information Collection 9000-0006, Subcontracting Plans/Individual Subcontract Report (SF) 294 and ISRS” on your attached document.

• Mail: General Services Administration, Regulatory Secretariat Division (MVCB), 1800 F Street NW., Washington, DC 20405. ATTN: Ms. Flowers/IC 9000-0006, Subcontracting Plans/Individual Subcontract Report (SF) 294 and ISRS.

Instructions: Please submit comments only and cite Information Collection 9000-0006, Subcontracting Plans/Individual Subcontract Report (SF) 294 and ISRS, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Mahruba Uddowla, Procurement Analyst, Office of Acquisition Policy, GSA 703-605-2868 or email mahruba.uddowla@gsa.gov.

SUPPLEMENTARY INFORMATION:

A. Purpose

In accordance with Federal Acquisition Regulation 19.702, which implements the statutory requirements of Section 8(d) of the Small Business Act (15 U.S.C. 637(d)), contractors receiving a contract for more than the simplified acquisition threshold agree to have small business, small disadvantaged business, women-owned small business, historically underutilized business zone small business, veteran-owned small business, and service-disabled veteran-owned small business concerns participate in the performance of the contract as far as practicable. Contractors receiving a contract or a modification to a contract expected to exceed $700,000 ($1,500,000 for construction) must submit a subcontracting plan that provides maximum practicable opportunities for the above named concerns. Specific elements required to be included in the plan are specified in section 8(d) of the Small Business Act and implemented in FAR subpart 19.7 and clause 52.219-9.

In conjunction with the subcontracting plan requirements, contractors must submit semi-annual reports of their small business subcontracting progress to the government. With the exception of those contracts noted in FAR 4.606(c)(5) which states “Actions that, pursuant to other authority, will not be entered in FPDS (e.g., reporting of the information would compromise national security)”, contractors must use the electronic Individual Subcontract Report (ISR) in the Electronic Subcontracting Reporting System (eSRS) in lieu of the Standard Form 294, Subcontracting Report for Individual Contracts.

The ISR is the electronic equivalent of the Standard Form 294. The eSRS streamlines the small business subcontracting program reporting process and provides the data to agencies in a manner that enables them to more effectively manage the program. Those contract actions noted in FAR 4.606(c)(5) will continue to use the Standard Form 294.

The SBA made regulatory changes in its final rule at 78 FR 42391, dated July 16, 2013 regarding subcontracting plan requirements and the associated reporting requirements. The SBA final rule is being implemented in the FAR at subpart 19.7 and clause 52.219-9 Small Business Subcontracting Plan through FAR case 2014-003, Small Business Subcontracting Improvements. FAR case 2014-003 revised the FAR to require a subcontracting plan for modifications of any value if the modification will cause the contract to exceed the threshold for requiring a plan and when subcontracting opportunities exist as well as to give contracting officers the discretion to require a plan when a small business prime contractor rerepresents as an other than small on the contract. These revisions to the FAR required revisions to the existing information collections associated with subcontracting plan requirements and the associated reporting requirements.

B. Annual Reporting Burden

Based on the proposed revisions to the FAR as well as a more accurate basis for estimation, an upward adjustment is being made to the average burden hours for reporting and recordkeeping per response but a downward adjustment is being made to the number of respondents (i.e., subcontracting plans and the individual subcontracting reports associated with them). As a result, a downward adjustment is being made to the estimated annual reporting burden since the notice regarding an extension to this clearance published in the Federal Register at 78 FR 17668, on March 22, 2013.

Respondents: 59,336.

Responses per Respondent: 3.

Total Annual Responses: 178,008.

Average Burden Hours per Response: 13.5.

Total Burden Hours: 2,403,108.

Public comments are particularly invited on: Whether this collection of information is necessary for the proper performance of functions of the Federal Acquisition Regulations (FAR), and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies Of Proposals: Requesters may obtain a copy of the information collection documents from the General Services Administration, Regulatory Secretariat Division (MVCB), 1800 F Street NW., Washington, DC 20405, telephone 202-501-4755.

Please cite OMB Control No. 9000-0006, Subcontracting Plans/Individual Subcontract Report, SF 294, in all correspondence.

Edward Loeb,
Acting Director, Federal Acquisition Policy Division, Office of Governmentwide Acquisition Policy, Office of Acquisition Policy, Office of Governmentwide Policy.

[FR Doc. 2015-27509 Filed 10-28-15; 8:45 am]

BILLING CODE 6820-EP-P